DEPARTMENT OF COMMERCE

National Oceanic and Atmospheric Administration

50 CFR Part 223

[Docket 020626160-2309-03; I.D. 061902C]

RIN 0648-AQ13

Taking of Threatened or Endangered Species Incidental to Commercial Fishing Operations

AGENCY: National Marine Fisheries Service (NMFS), National Oceanic and Atmospheric Administration (NOAA), Commerce.

ACTION: Extension of public comment period for interim final rule.

SUMMARY: The National Marine Fisheries Service (NMFS) is extending the public comment period through March 24, 2003 for an interim final rule published in the Federal Register on December 24, 2002. The purpose of the interim final rule is to prohibit fishing with drift gillnets in the California/Oregon (CA/OR) thresher shark/swordfish drift gillnet fishery in U.S. waters off southern California, south of Point Conception (34°27′N.) and west to the 120°W., from August 15 through August 31, and January 1 through January 31, when the Assistant Administrator for Fisheries publishes a notice that El Nino conditions are present. The comment period, which originally ended on February 7, 2003, is being extended to allow for additional public comment.

DATES: Written comments on the above mentioned interim final rule must be postmarked or transmitted by facsimile by 5 p.m., Pacific Standard Time, on March 24, 2003. Comments transmitted via e-mail or the Internet will not be accepted.

ADDRESSES: Written comments on the interim final rule should be sent to Tim Price, Protected Resources Division, National Marine Fisheries Service, Southwest Region, 501 West Ocean Boulevard, Suite 4200, Long Beach, CA 90802-4213. Copies of the Environmental Assessment (EA) and biological opinion (BO) are available on the internet at http://swr.ucsd.edu/ or may be obtained from Tim Price, Protected Resources Division, National Marine Fisheries Service, Southwest Region, 501 West Ocean Boulevard, Suite 4200, Long Beach, CA 90802-4213.

FOR FURTHER INFORMATION CONTACT: Tim Price, NMFS, Southwest Region, Protected Resources Division, (562) 980-4029.

SUPPLEMENTARY INFORMATION: On December 24, 2002, NMFS published an interim final rule (67 FR 78388) implementing the framework for prohibiting fishing with drift gillnets in the California/Oregon (CA/OR) thresher shark/swordfish drift gillnet fishery in U.S. waters off southern California, south of Point Conception (34°27′N.) and west to the 120°W., from August 15 through August 31, and January 1 through January 31, when the Assistant Administrator for Fisheries publishes a notice that El Nino conditions are present. This interim final rule also announced the criteria that will be used for determining whether El Nino conditions are present along southern California for the purpose of implementing the time and area closure. Based on the these criteria, NMFS determined that El Nino conditions were not present for purposes of implementing the time and area closure for January 2003. In addition, comments were requested on an alternate closure that NMFS is evaluating.

The comment period is being extended in response to a request from the public to provide more time to review the loggerhead turtle entanglement data and the sea surface temperature data available on the NOAA Coastwatch West Coast Regional Node web page at http://cwatchwc.ucsd.edu/.

Dated: February 7, 2003.
William T. Hogarth,
Assistant Administrator for Fisheries, National Marine Fisheries Service.

[FR Doc. 03-3494 Filed 2-7-03; 1:52 pm]

BILLING CODE 3510-22-S